DEPARTMENT OF COMMERCE

Foreign-Trade Zones Board

[Order No. 1249]

Expansion of Foreign-Trade Zone 78, Nashville, Tennessee, Area

Pursuant to its authority under the Foreign-Trade Zones Act of June 18, 1934, as amended (19 U.S.C. 81a-81u), the Foreign-Trade Zones Board (the Board) adopts the following Order:

Whereas, the Metropolitan Government of Nashville and Davidson County, grantee of Foreign-Trade Zone 78, submitted an application to the Board for authority to expand FTZ 78-Site 7 to include an additional parcel (42 acres; includes temporary site) within the Eastgate Business Park in Lebanon, Tennessee, adjacent to the Nashville Customs port of entry (FTZ Docket 15-2002; filed February 8, 2002;

Whereas, notice inviting public comment was given in the Federal Register (67 FR 7132, February 15, 2002) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 78-Site 7 is approved, subject to the Act and the Board's regulations, including § 400.28.

Signed at Washington, DC, this 30th day of September, 2002.
Faryar Shirzad,
Assistant Secretary of Commerce for Import Administration, Alternate Chairman, Foreign-Trade Zones Board.
Attest:
Dennis Puccinelli,
Executive Secretary.

[FR Doc. 02-25628 Filed 10-7-02; 8:45 am]

BILLING CODE 3510-DS-P